ENVIRONMENTAL PROTECTION AGENCY

40 CFR Part 180

[EPA-HQ-OPP-2024-0059; FRL-11682-05-OCSPP]

Receipt of a Pesticide Petition Filed for Residues of Pesticide Chemicals in or on Various Commodities (May 2024)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before July 31, 2024.

ADDRESSES: Submit your comments, identified by docket identification (ID) number EPA-HQ-OPP-2024-0059, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Notice of Filing—Amended Tolerance Exemptions for Inerts (Except PIPS)

PP IN-11865. EPA-HQ-OPP-2024-0190. RegGuide (P.O. Box 2226, 509 Tower Valley Drive, Hillsboro, MO 63050) on behalf of Stratacor, Inc. (6 Christopher Court, Novato, CA 94947), requests to amend an exemption from the requirement of a tolerance for residues of choline chloride (CAS Reg. No. 67-48-1) by adding its use as an inert ingredient (adjuvant) in pesticide formulations under 40 CFR 180.930. The petitioner believes no analytical method is needed because it is not required for an exemption from the requirement of a tolerance. Contact: RD.

B. Notice of Filing—Amended Tolerances for Non-Inerts

PP 3E9077. EPA-HQ-OPP-2023-0554. The Interregional Research Project Number 4 (IR-4), IR-4 Project Headquarters, North Carolina State University, 1730 Varsity Drive, Suite 210, Venture IV, Raleigh, NC 27606, requests to amend 40 CFR 180.462 by removing the established tolerances for the residues of pyridate including its metabolites and degradates, O-(6-chloro-3-phenyl-4-pyridazinyl)-S-octyl-carbonothioate, and its metabolites, 6-chloro-3-phenyl-pyridazine-4-ol and conjugates of 6-chloro-3-phenyl-pyridazine-4-ol, calculated as the stoichiometric equivalent of pyridate, in or on the commodities: Brassica, head and stem, subgroup 5A at 0.03 parts per million (ppm); cabbage at 0.03 ppm; corn, field, grain at 0.03 ppm; corn, pop, grain at 0.03 ppm; peppermint, tops at 0.20 ppm; and spearmint, tops at 0.20 ppm. Contact: RD.

C. Notice of Filing—New Tolerances for Non-Inerts

1. PP 2F8995. EPA-HQ-OPP-2022-0594. Nufarm Limited, C/O Nufarm Americas, Inc. 4020 Aerial Center Parkway, Suite 101 Morrisville, NC 27560, requests to establish a tolerance in 40 CFR part 180 for residues of the herbicide dichlorprop-P, (R)-2-(2,4-dichlorophenoxy)propionic acid in or on Amaranth, grain, forage at 50 ppm; amaranth, grain, hay at 80 ppm; amaranth, grain, straw at 40 ppm; amaranth, purple, forage at 50 ppm; amaranth, purple, hay at 80 ppm; amaranth, purple, straw at 40 ppm; baby corn, forage at 0.06 ppm; baby corn, stover at 0.15 ppm; barley, hay at 40 ppm; barley, straw at 15 ppm; barley, subgroup 15-22B at 0.3 ppm; buckwheat, hay at 40 ppm; buckwheat, straw at 15 ppm; buckwheat, tartary, hay at 40 ppm; buckwheat, tartary, straw at 15 ppm; canarygrass, annual, hay at 40 ppm; canarygrass, annual, straw at 15 ppm; cañihua, forage at 50 ppm; cañihua, hay at 80 ppm; cañihua, straw at 40 ppm; chia, forage at 50 ppm; chia, hay at 80 ppm; chia, straw at 40 ppm; corn, field, forage at 0.01 ppm; corn, field, stover at 0.01 ppm; corn, field, subgroup 15-22C at 0.01 ppm; corn, pop, stover at 0.01 ppm; corn, sweet, forage at 0.06 ppm; corn, sweet, stover at 0.15 ppm; corn, sweet, subgroup 15-22D at 0.01 ppm; cram-cram, forage at 50 ppm; cram-cram, hay at 80 ppm; cram-cram, straw at 40 ppm; fonio, black, forage at 0.02 ppm; fonio, black, stover at 0.09 ppm; fonio, white, forage at 0.02 ppm; fonio, white, stover at 0.09 ppm; huauzontle, grain, forage at 50 ppm; huauzontle, grain, hay at 80 ppm; huauzontle, grain, straw at 40 ppm; inca wheat, forage at 50 ppm; inca wheat, hay at 80 ppm; inca wheat, straw at 40 ppm; job's tears, forage at 0.02 ppm; job's tears, stover at 0.09 ppm; millet, barnyard, forage at 0.02 ppm; millet, barnyard, hay at 0.02 ppm; millet, barnyard, straw at 0.09 ppm; millet, finger, forage at 0.02 ppm; millet, finger, hay at 0.02 ppm; millet, finger, straw at 0.09 ppm; millet, foxtail, forage at 0.02 ppm; millet, foxtail, hay at 0.02 ppm; millet, foxtail, straw at 0.09 ppm; millet, little, forage at 0.02 ppm; millet, little, hay at 0.02 ppm; millet, little, straw at 0.09 ppm; millet, pearl, forage at 0.02 ppm; millet, pearl, hay at 0.02 ppm; millet, pearl, straw at 0.09 ppm; millet, proso, forage at 0.02 ppm; millet, proso, hay at 0.02 ppm; millet, proso, straw at 0.09 ppm; oat, forage at 40 ppm; oat, hay at 40 ppm; oat, straw at 15 ppm; oat, Abyssinian, forage at 40 ppm; oat, Abyssinian, hay at 40 ppm; oat, Abyssinian, straw at 15 ppm; oat, common, forage at 40 ppm; oat, common, hay at 40 ppm; oat, common, straw at 15 ppm; oat, naked, forage at 40 ppm; oat, naked, hay at 40 ppm; oat, naked, straw at 15 ppm; oat, sand, forage at 40 ppm; oat, sand, hay at 40 ppm; oat, sand, straw at 15 ppm; prince's-feather, forage at 50 ppm; prince's-feather, hay at 80 ppm; prince's-feather, straw at 40 ppm; psyllium, forage at 50 ppm; psyllium, hay at 80 ppm; psyllium, straw at 40 ppm; psyllium, blond, forage at 50 ppm; psyllium, blond, hay at 80 ppm; psyllium, blond, straw at 40 ppm; quinoa, forage at 50 ppm; quinoa, hay at 80 ppm; quinoa, straw at 40 ppm; rye, forage at 50 ppm; rye, hay at 80 ppm; rye, straw at 40 ppm; sorghum, grain, and millet, subgroup 15-22E at 0.01 ppm; sorghum, grain, forage at 0.02 ppm; sorghum, grain, stover at 0.09 ppm; soybean, forage at 0.05 ppm; soybean, hay at 0.03 ppm; soybean, seed at 0.01 ppm; teff, forage at 0.02 ppm; teff, hay at 0.02 ppm; teff, straw at 0.09 ppm; teosinte, forage at 0.01 ppm; teosinte, stover at 0.01 ppm; triticale, forage at 50 ppm; triticale, hay at 80 ppm; triticale, straw at 40 ppm; wheat, forage at 50 ppm; wheat, germ at 0.2 ppm; wheat, hay at 80 ppm; wheat, straw at 40 ppm; wheat, subgroup 15-22A at 0.1 ppm; wheat, club, forage at 50 ppm; wheat, club, hay at 80 ppm; wheat, club, straw at 40 ppm; wheat, common, forage at 50 ppm; wheat, common, hay at 80 ppm; wheat, common, straw at 40 ppm; wheat, durum, forage at 50 ppm; wheat, durum, hay at 80 ppm; wheat, durum, straw at 40 ppm; wheat, einkorn, forage at 50 ppm; wheat, einkorn, hay at 80 ppm; wheat, einkorn, straw at 40 ppm; wheat, emmer, forage at 50 ppm; wheat, emmer, hay at 80 ppm; wheat, emmer, straw at 40 ppm; wheat, macha, forage at 50 ppm; wheat, macha, hay at 80 ppm; wheat, macha, straw at 40 ppm; wheat, oriental, forage at 50 ppm; wheat, oriental, hay at 80 ppm; wheat, oriental, straw at 40 ppm; wheat, Persian, forage at 50 ppm; wheat, Persian, hay at 80 ppm; wheat, Persian, straw at 40 ppm; wheat, Polish, forage at 50 ppm; wheat, Polish, hay at 80 ppm; wheat, Polish, straw at 40 ppm; wheat, poulard, forage at 50 ppm; wheat, poulard, hay at 80 ppm; wheat, poulard, straw at 40 ppm; wheat, shot, forage at 50 ppm; wheat, shot, hay at 80 ppm; wheat, shot, straw at 40 ppm; wheat, spelt, forage at 50 ppm; wheat, spelt, hay at 80 ppm; wheat, spelt, straw at 40 ppm; wheat, timopheevi, forage at 50 ppm; wheat, timopheevi, hay at 80 ppm; wheat, timopheevi, straw at 40 ppm; wheat, vavilovi, forage at 50 ppm; wheat, vavilovi, hay at 80 ppm; wheat, vavilovi, straw at 40 ppm; wheat, wild einkorn, forage at 50 ppm; wheat, wild einkorn, hay at 80 ppm; wheat, wild einkorn, straw at 40 ppm; wheat, wild emmer, forage at 50 ppm; wheat, wild emmer, hay at 80 ppm; wheat, wild emmer, straw at 40 ppm; wheatgrass, intermediate, forage at 50 ppm; wheatgrass, intermediate, hay at 80 ppm; wheatgrass, intermediate, straw at 40 ppm; cattle, fat at 0.15 ppm; cattle, kidney at 1.0 ppm; cattle, liver at 0.05 ppm; cattle, meat at 0.01 ppm; cattle, meat byproducts at 1.0 ppm; egg at 0.01 ppm; goat, fat at 0.15 ppm; goat, kidney at 1.0 ppm; goat, liver at 0.05 ppm; goat, meat at 0.01 ppm; goat, meat byproducts at 1.0 ppm; hog, fat at 0.15 ppm; hog, kidney at 1.0 ppm; hog, liver at 0.05 ppm; hog, meat at 0.01 ppm; hog, meat byproducts at 1.0 ppm; horse, fat at 0.15 ppm; horse, kidney at 1.0 ppm; horse, liver at 0.05 ppm; horse, meat at 0.01 ppm; horse, meat byproducts at 1.0 ppm; milk at 0.01 ppm; poultry, fat at 0.01 ppm; poultry, liver at 0.01 ppm; poultry, meat at 0.01 ppm; poultry, meat byproducts at 0.01 ppm; sheep, fat at 0.15 ppm; sheep, kidney at 1.0 ppm; sheep, liver at 0.05 ppm; sheep, meat at 0.01 ppm; and sheep, meat byproducts at 1.0 ppm. A high-performance liquid chromatography employing tandem mass spectrometric detection (HPLC-MS/MS) is used to measure and evaluate the chemical dichlorprop-P. Contact: RD.

2. PP3E9077. EPA-HQ-OPP-2023-0554. The IR-4 Project Headquarters, North Carolina State University, 1730 Varsity Drive, Venture IV, Suite 210, Raleigh, NC 27606, requests to establish tolerances in 40 CFR 180.462 for residues of the herbicide pyridate, O-(6-chloro-3-phenyl-4-pyridazinyl)-S-octyl-carbonothioate, and its metabolites, 6-chloro-3-phenyl-pyridazine-4-ol and conjugates of 6-chloro-3-phenyl-pyridazine-4-ol, calculated as the stoichiometric equivalent of pyridate, in or on the raw agricultural commodities: Mint, dried leaves at 15 ppm; mint, fresh leaves at 3 ppm; field corn subgroup 15-22C at 0.03 ppm; kohlrabi at 0.03 ppm; and vegetable, brassica, head and stem, group 5-16 at 0.03 ppm. A HPLC-MS/MS residue analytical method was used for the determination of pyridate and CL 9673 in crops. Contact: RD.

3. PP3E9080. EPA-HQ-OPP-2024-0140. The IR-4, North Carolina State University, 1730 Varsity Drive, Venture IV, Suite 210, Raleigh, NC 27606, proposing, pursuant to section 408(d) of the FFDCA, 21 U.S.C. 346a(d), requests to amend 40 CFR 180.712 by establishing a new tolerance for residues of the fungicide inpyrfluxam, including its metabolites and degradates, (3-(difluoromethyl)-N-[(R)-2,3-dihydro-1,1,3-trimethyl-1H-inden-4-yl]-1-methyl-1H-pyrazole-4-carboxamide) in or on the raw agricultural plant commodity: Vegetable, cucurbit, group 9, at 0.15 ppm. An independently validated analytical method has been submitted for determining inpyrfluxam residues with appropriate sensitivity in all crop commodities for which tolerances are being requested. Contact: RD.

4. PP 3F9067. EPA-HQ-OPP-2023-0596. Bayer CropScience LP, 800 N. Lindbergh Blvd., St. Louis, MO 63167, requests to establish a tolerance in 40 CFR part 180 for residues of the insecticide ethiprole, 5-amino-1-[2,6-dichloro-4-(trifluoromethyl) phenyl]-4-(ethylsulfinyl)-1H-pyrazole-3-carbonitrile in or on sugarcane at 0.1 ppm. A HPLC-MS/MS method is used to measure and evaluate the chemical ethiprole. Contact: RD.

5. PP 3F9068. EPA-HQ-OPP-2023-0537. BASF Corporation, 26 Davis Drive, P.O. Box 13528, Research Triangle Park, North Carolina 27709, requests to establish a tolerance in 40 CFR part 180 for residues of the herbicide, topramezone, in or on cottonseed, subgroup 20C at 0.03 ppm and cotton, gin byproducts at 0.9 ppm. A HPLC-MS/MS is used to measure and evaluate the chemical topramezone. Contact: RD.

6. PP 3F9085. EPA-HQ-OPP-2024-0217. The American Spice Trade Association, 1101 17th Street NW, Suite 700, Washington DC 20036, requests to establish tolerances in 40 CFR part 180 for residues of the insecticide, acetamiprid, in or on pepper, black at 0.1 ppm; and spices from Codex crop group spices, seed that overlap with spices in Crop Group 19: Ambrette, seed; angelica, seed; angelica, daharian, seed; anise, seed; annatto, seed; candlebush; caraway, black, seed; caraway, seed; celery, seed; chervil, seed; chinese nutmeg tree; coriander, seed; cubeb, seed; culantro, seed; cumin, seed; dill, seed; fennel, seed; fennel flower, seed; fenugreek, seed; grains of paradise, seed; guarana; honewort, seed; lovage, seed; mahaleb; malabar tamarind; milk thistle; mustard, black, seed; mustard, brown, seed; mustard, white, seed; nutmeg; poppy seed; sesame seed; wattle seed at 2.0 ppm. The GC/ECD, HPLC/UV, GC-MS/MS, and HPLC-MS/MS methods are used to measure and evaluate the chemical acetamiprid. Contact: RD.

D. Notice of Filing—New Tolerances for Non-Inerts

1. PP 2F8995.EPA-HQ-OPP-2022-0594.Nufarm Limited, C/O Nufarm Americas, Inc. 4020 Aerial Center Parkway, Suite 101 Morrisville, NC 27560, requests to establish a tolerance in 40 CFR part 180 for residues of the herbicide dichlorprop-P, (R)-2-(2,4-dichlorophenoxy)propionic acidin or onamaranth, grain, forage at 50 ppm; amaranth, grain, hay at 80 ppm; amaranth, grain, straw at 40 ppm; amaranth, purple, forage at 50 ppm; amaranth, purple, hay at 80 ppm; amaranth, purple, straw at 40 ppm; baby corn, forage at 0.06 ppm; baby corn, stover at 0.15 ppm; barley, hay at 40 ppm; barley, straw at 15 ppm; barley, subgroup 15-22B at 0.3 ppm; buckwheat, hay at 40 ppm; buckwheat, straw at 15 ppm; buckwheat, tartary, hay at 40 ppm; buckwheat, tartary, straw at 15 ppm; canarygrass, annual, hay at 40 ppm; canarygrass, annual, straw at 15 ppm; cañihua, forage at 50 ppm; cañihua, hay at 80 ppm; cañihua, straw at 40 ppm; chia, forage at 50 ppm; chia, hay at 80 ppm; chia, straw at 40 ppm; corn, field, forage at 0.01 ppm; corn, field, stover at 0.01 ppm; corn, field, subgroup 15-22C at 0.01 ppm; corn, pop, stover at 0.01 ppm; corn, sweet, forage at 0.06 ppm; corn, sweet, stover at 0.15 ppm; corn, sweet, subgroup 15-22D at 0.01 ppm; cram-cram, forage at 50 ppm; cram-cram, hay at 80 ppm; cram-cram, straw at 40 ppm; fonio, black, forage at 0.02 ppm; fonio, black, stover at 0.09 ppm; fonio, white, forage at 0.02 ppm; fonio, white, stover at 0.09 ppm; huauzontle, grain, forage at 50 ppm; huauzontle, grain, hay at 80 ppm; huauzontle, grain, straw at 40 ppm; inca wheat, forage at 50 ppm; inca wheat, hay at 80 ppm; inca wheat, straw at 40 ppm; job's tears, forage at 0.02 ppm; job's tears, stover at 0.09 ppm; millet, barnyard, forage at 0.02 ppm; millet, barnyard, hay at 0.02 ppm; millet, barnyard, straw at 0.09 ppm; millet, finger, forage at 0.02 ppm; millet, finger, hay at 0.02 ppm; millet, finger, straw at 0.09 ppm; millet, foxtail, forage at 0.02 ppm; millet, foxtail, hay at 0.02 ppm; millet, foxtail, straw at 0.09 ppm; millet, little, forage at 0.02 ppm; millet, little, hay at 0.02 ppm; millet, little, straw at 0.09 ppm; millet, pearl, forage at 0.02 ppm; millet, pearl, hay at 0.02 ppm; millet, pearl, straw at 0.09 ppm; millet, proso, forage at 0.02 ppm; millet, proso, hay at 0.02 ppm; millet, proso, straw at 0.09 ppm; oat, forage at 40 ppm; oat, hay at 40 ppm; oat, straw at 15 ppm; oat, abyssinian, forage at 40 ppm; oat, abyssinian, hay at 40 ppm; oat, abyssinian, straw at 15 ppm; oat, common, forage at 40 ppm; oat, common, hay at 40 ppm; oat, common, straw at 15 ppm; oat, naked, forage at 40 ppm; oat, naked, hay at 40 ppm; oat, naked, straw at 15 ppm; oat, sand, forage at 40 ppm; oat, sand, hay at 40 ppm; oat, sand, straw at 15 ppm; prince's-feather, forage at 50 ppm; prince's-feather, hay at 80 ppm; prince's-feather, straw at 40 ppm; psyllium, forage at 50 ppm; psyllium, hay at 80 ppm; psyllium, straw at 40 ppm; psyllium, blond, forage at 50 ppm; psyllium, blond, hay at 80 ppm; psyllium, blond, straw at 40 ppm; quinoa, forage at 50 ppm; quinoa, hay at 80 ppm; quinoa, straw at 40 ppm; rye, forage at 50 ppm; rye, hay at 80 ppm; rye, straw at 40 ppm; sorghum, grain, and millet, subgroup 15-22E at 0.01 ppm; sorghum, grain, forage at 0.02 ppm; sorghum, grain, stover at 0.09 ppm; soybean, forage at 0.05 ppm; soybean, hay at 0.03 ppm; soybean, seed at 0.01 ppm; teff, forage at 0.02 ppm; teff, hay at 0.02 ppm; teff, straw at 0.09 ppm; teosinte, forage at 0.01 ppm; teosinte, stover at 0.01 ppm; triticale, forage at 50 ppm; triticale, hay at 80 ppm; triticale, straw at 40 ppm; wheat, forage at 50 ppm; wheat, germ at 0.2 ppm; wheat, hay at 80 ppm; wheat, straw at 40 ppm; wheat, subgroup 15-22A at 0.1 ppm; wheat, club, forage at 50 ppm; wheat, club, hay at 80 ppm; wheat, club, straw at 40 ppm; wheat, common, forage at 50 ppm; wheat, common, hay at 80 ppm; wheat, common, straw at 40 ppm; wheat, durum, forage at 50 ppm; wheat, durum, hay at 80 ppm; wheat, durum, straw at 40 ppm; wheat, einkorn, forage at 50 ppm; wheat, einkorn, hay at 80 ppm; wheat, einkorn, straw at 40 ppm; wheat, emmer, forage at 50 ppm; wheat, emmer, hay at 80 ppm; wheat, emmer, straw at 40 ppm; wheat, macha, forage at 50 ppm; wheat, macha, hay at 80 ppm; wheat, macha, straw at 40 ppm; wheat, oriental, forage at 50 ppm; wheat, oriental, hay at 80 ppm; wheat, oriental, straw at 40 ppm; wheat, Persian, forage at 50 ppm; wheat, Persian, hay at 80 ppm; wheat, Persian, straw at 40 ppm; wheat, Polish, forage at 50 ppm; wheat, Polish, hay at 80 ppm; wheat, Polish, straw at 40 ppm; wheat, poulard, forage at 50 ppm; wheat, poulard, hay at 80 ppm; wheat, poulard, straw at 40 ppm; wheat, shot, forage at 50 ppm; wheat, shot, hay at 80 ppm; wheat, shot, straw at 40 ppm; wheat, spelt, forage at 50 ppm; wheat, spelt, hay at 80 ppm; wheat, spelt, straw at 40 ppm; wheat, timopheevi, forage at 50 ppm; wheat, timopheevi, hay at 80 ppm; wheat, timopheevi, straw at 40 ppm; wheat, vavilovi, forage at 50 ppm; wheat, vavilovi, hay at 80 ppm; wheat, vavilovi, straw at 40 ppm; wheat, wild einkorn, forage at 50 ppm; wheat, wild einkorn, hay at 80 ppm; wheat, wild einkorn, straw at 40 ppm; wheat, wild emmer, forage at 50 ppm; wheat, wild emmer, hay at 80 ppm; wheat, wild emmer, straw at 40 ppm; wheatgrass, intermediate, forage at 50 ppm; wheatgrass, intermediate, hay at 80 ppm; wheatgrass, intermediate, straw at 40 ppm; cattle, fat at 0.15 ppm; cattle, kidney at 1.0 ppm; cattle, liver at 0.05 ppm; cattle, meat at 0.01 ppm; cattle, meat byproducts at 1.0 ppm; egg at 0.01 ppm; goat, fat at 0.15 ppm; goat, kidney at 1.0 ppm; goat, liver at 0.05 ppm; goat, meat at 0.01 ppm; goat, meat byproducts at 1.0 ppm; hog, fat at 0.15 ppm; hog, kidney at 1.0 ppm; hog, liver at 0.05 ppm; hog, meat at 0.01 ppm; hog, meat byproducts at 1.0 ppm; horse, fat at 0.15 ppm; horse, kidney at 1.0 ppm; horse, liver at 0.05 ppm; horse, meat at 0.01 ppm; horse, meat byproducts at 1.0 ppm; milk at 0.01 ppm; poultry, fat at 0.01 ppm; poultry, liver at 0.01 ppm; poultry, meat at 0.01 ppm; poultry, meat byproducts at 0.01 ppm; sheep, fat at 0.15 ppm; sheep, kidney at 1.0 ppm; sheep, liver at 0.05 ppm; sheep, meat at 0.01 ppm; and sheep, meat byproducts at 1.0 ppm. AHPLC-MS/MSis used to measure and evaluate the chemicaldichlorprop-P. Contact:RD.

2. PP 3E9060. EPA-HQ-OPP-2024-0176. USDA Foreign Agriculture Service, 1400 Independence Ave., Washington, DC 20250, requests to establish a tolerance in 40 CFR part 180 for residues of the fungicide, fluopyram (N-[2-[3-chloro-5-(trifluoromethyl)-2-pyridinyl] ethyl]-2-(trifluoromethyl) benzamide), in or on mango at 1 ppm. A HPLC-MS/MS is used to measure and evaluate the chemical fluopyram. Contact: RD.

3. PP 3E9077. EPA-HQ-OPP-2023-0554. The IR-4 Project Headquarters, North Carolina State University, 1730 Varsity Drive, Venture IV, Suite 210, Raleigh, NC 27606, requests to establish tolerances in 40 CFR 180.462 for residues of the herbicide pyridate, O-(6-chloro-3-phenyl-4-pyridazinyl)-S-octyl-carbonothioate, and its metabolites, 6-chloro-3-phenyl-pyridazine-4-ol and conjugates of 6-chloro-3-phenyl-pyridazine-4-ol, calculated as the stoichiometric equivalent of pyridate, in or on the raw agricultural commodities: Mint, dried leaves at 15 ppm; mint, fresh leaves at 3 ppm; field corn subgroup 15-22C at 0.03 ppm; kohlrabi at 0.03 ppm; and vegetable, brassica, head and stem, group 5-16 at 0.03 ppm. A HPLC-MS/MS residue analytical method was used for the determination of pyridate and CL 9673 in crops. Contact: RD.

4. PP 3E9080. EPA-HQ-OPP-2024-0140. The IR-4, North Carolina State University, 1730 Varsity Drive, Venture IV, Suite 210, Raleigh, NC 27606, proposing, pursuant to section 408(d) of the FFDCA, 21 U.S.C. 346a(d), requests to amend 40 CFR 180.712 by establishing a new tolerance for residues of the fungicide inpyrfluxam, including its metabolites and degradates, (3-(difluoromethyl)-N-[(R)-2,3-dihydro-1,1,3-trimethyl-1H-inden-4-yl]-1-methyl-1H-pyrazole-4-carboxamide) in or on the raw agricultural plant commodity: Vegetable, cucurbit, group 9, at 0.15 ppm. An independently validated analytical method has been submitted for determining inpyrfluxam residues with appropriate sensitivity in all crop commodities for which tolerances are being requested. Contact: RD.

5. PP 3F9067. EPA-HQ-OPP-2023-0596. Bayer CropScience LP, 800 N. Lindbergh Blvd., St. Louis, MO 63167, requests to establish a tolerance in 40 CFR part 180 for residues of the insecticide ethiprole, 5-amino-1-[2,6-dichloro-4-(trifluoromethyl) phenyl]-4-(ethylsulfinyl)-1H-pyrazole-3-carbonitrile in or on sugarcane at 0.1 ppm. A HPLC-MS/MS method is used to measure and evaluate the chemical ethiprole. Contact: RD.

6. PP 3F9068. EPA-HQ-OPP-2023-0537. BASF Corporation, 26 Davis Drive, P.O. Box 13528, Research Triangle Park, North Carolina 27709, requests to establish a tolerance in 40 CFR part 180 for residues of the herbicide, topramezone, in or on cottonseed, subgroup 20C at 0.03 ppm and cotton, gin byproducts at 0.9 ppm. A HPLC-MS/MS is used to measure and evaluate the chemical topramezone.Contact: RD.

7. PP 3F9075. EPA-HQ-OPP-2024-0187. BASF Corporation, 26 Davis Drive, P.O. Box 13528, Research Triangle Park, NC 27709, requests to establish a tolerance in 40 CFR part 180 for residues of the fungicide, boscalid (3-pyridinecarboxamide, 2-chloro-N-(4′-chloro[1,1′-biphenyl]-2-yl)), in or on cereal grain, field corn subgroup 15-22C at 0.2 ppm; cereal grain, sweet corn subgroup 15-22D at 0.2 ppm; corn, field forage at 20.0 ppm; corn, sweet forage at 20.0 ppm; corn, pop, forage at 20.0 ppm; corn, field stover at 50.0 ppm; corn, sweet, stover at 50.0 ppm; corn, pop, stover at 50.0 ppm.

In addition, the petition includes the request to modify the expression of the existing tolerances for indirect or inadvertent residues of boscalid (3-pyridinecarboxamide, 2-chloro-N-(4′-chloro[1,1′-biphenyl]-2-yl)) in or on grain, cereal, group 15 at 0.2 ppm to grain, cereal, group 15, except corn at 0.2 ppm; grain, cereal, forage, fodder and straw, group 16, forage at 2.0 ppm to grain, cereal, forage, fodder and straw, group 16, forage, except corn forage at 2.0 ppm; and grain, cereal, forage, fodder and straw, group 16, stover at 1.5 ppm to grain, cereal, forage, fodder and straw, group 16, stover, except corn stover at 1.5 ppm. Liquid chromatography tandem mass spectrometry is used to measure and evaluate the chemical boscalid. Contact: RD.

8. PP 3F9085. EPA-HQ-OPP-2024-0217. The American Spice Trade Association, 1101 17th Street NW, Suite 700, Washington, DC 20036, requests to establish tolerances in 40 CFR part 180 for residues of the insecticide, acetamiprid, in or on pepper, black at 0.1 ppm; and spices from Codex crop group spices, seed that overlap with spices in Crop Group 19: Ambrette, seed; angelica, seed; angelica, daharian, seed; anise, seed; annatto, seed; candlebush; caraway, black, seed; caraway, seed; celery, seed; chervil, seed; chinese nutmeg tree; coriander, seed; cubeb, seed; culantro, seed; cumin, seed; dill, seed; fennel, seed; fennel flower, seed; fenugreek, seed; grains of paradise, seed; guarana; honewort, seed; lovage, seed; mahaleb; malabar tamarind; milk thistle; mustard, black, seed; mustard, brown, seed; mustard, white, seed; nutmeg; poppy seed; sesame seed; wattle seed at 2.0 ppm. The GC/ECD, HPLC/UV, GC-MS/MS and HPLC-MS/MS methods are used to measure and evaluate the chemical acetamiprid.Contact: RD.

Authority: 21 U.S.C. 346a.

Dated: June 24, 2024.
Kimberly Smith,
Acting Director, Information Technology and Resources Management Division, Office of Pesticide Programs.

[FR Doc. 2024-14408 Filed 6-28-24; 8:45 am]

BILLING CODE 6560-50-P